DEPARTMENT OF ENERGY

Federal Energy Regulatory Commission

[Docket No. PF19-6-000]

Notice of Intent To Prepare an Environmental Impact Statement for the Planned Louisiana Connector Extension Project, Request for Comments on Environmental Issues, and Notice of Public Scoping Sessions: Port Arthur Pipeline, LLC

The staff of the Federal Energy Regulatory Commission (FERC or Commission) will prepare an environmental impact statement (EIS) that will discuss the environmental impacts of the Louisiana Connector Extension Project involving construction and operation of facilities by Port Arthur Pipeline, LLC (PAPL) in Cameron, Calcasieu, Beauregard, Allen, Evangeline, St. Landry, Rapides, Grant, La Salle, Catahoula, Franklin, and Richland Parishes, Louisiana and in Jefferson and Orange Counties, Texas. The Commission will use this EIS in its decision-making process to determine whether the project is in the public convenience and necessity.

This notice announces the opening of the scoping process the Commission will use to gather input from the public and interested agencies about issues regarding the project. The National Environmental Policy Act (NEPA) requires the Commission to take into account the environmental impacts that could result from its action whenever it considers the issuance of a Certificate of Public Convenience and Necessity. NEPA also requires the Commission to discover concerns the public may have about proposals. This process is referred to as “scoping.” The main goal of the scoping process is to focus the analysis in the EIS on the important environmental issues. By this notice, the Commission requests public comments on the scope of issues to address in the EIS. To ensure that your comments are timely and properly recorded, please submit your comments so that the Commission receives them in Washington, DC on or before 5:00 p.m. Eastern Time on October 7, 2019.

You can make a difference by submitting your specific comments or concerns about the project. Your comments should focus on the potential environmental effects, reasonable alternatives, and measures to avoid or lessen environmental impacts. Your input will help the Commission staff determine what issues they need to evaluate in the EIS. Commission staff will consider all filed comments during the preparation of the EIS.

If you sent comments on this project to the Commission before the opening of this docket on June 21, 2019, you will need to file those comments in Docket No. PF19-6-000 to ensure they are considered as part of this proceeding.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable easement agreement. You are not required to enter into an agreement. However, if the Commission approves the project, that approval conveys with it the right of eminent domain. Therefore, if you and the company do not reach an easement agreement, the pipeline company could initiate condemnation proceedings in court. In such instances, compensation would be determined by a judge in accordance with state law.

A fact sheet prepared by the FERC entitled `An Interstate Natural Gas Facility On My Land? What Do I Need To Know?' is available for viewing on the FERC website (www.ferc.gov) at https://www.ferc.gov/resources/guides/gas/gas.pdf. This fact sheet addresses a number of typically asked questions, including the use of eminent domain and how to participate in the Commission's proceedings.

Public Participation

The Commission offers a free service called eSubscription which makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, there are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a “Comment on a Filing”;

(3) You can file a paper copy of your comments by mailing them to the following address. Be sure to reference the project docket number (PF19-6-000) with your submission: Kimberly D. Bose, Secretary, Federal Energy Regulatory Commission, 888 First Street NE, Room 1A, Washington, DC 20426; or

(4) In lieu of sending written comments, the Commission invites you to attend the public scoping sessions its staff will conduct in the project area, scheduled as follows:

Date and time | Location
Monday, September 23, 2019, 4:00-7:00 p.m ¹ | Jack Hammons Community Center, 810 Adams Street, Winnsboro, LA, (318) 439-0043.
Tuesday, September 24, 2019, 4:00-7:00 p.m ¹ | Holiday Inn Lake Charles, Ballrooms 1, 2, & 3, 330 Arena Road, Sulphur, LA 70665, (337) 527-0858.
Wednesday, September 25, 2019, 4:00-7:00 p.m ¹ | Coushatta Casino, Resort, and Golf Course, Veranda Room & Chairman's Board Room, 777 Koasati Drive, Kinder, LA 70648, (800) 584-7263.
Thursday, September 26, 2019, 4:00-7:00 p.m ¹ | Alexandria Convention Center, Sapphire Room A&B, 2301 North MacArthur Drive, Alexandria, LA 71301, (318) 619-3300.
¹ Please note that staff may conclude the session at 6:30 p.m. if all attendees planning to provide comments have done so.

The primary goal of these scoping sessions is to have you identify the specific environmental issues and concerns that should be considered in the EIS. Individual verbal comments will be taken on a one-on-one basis with a court reporter. This format is designed to receive the maximum amount of verbal comments, in a convenient way during the timeframe allotted.

Each scoping session is scheduled from 4:00 p.m. to 7:00 p.m. Central. You may arrive at any time after 4:00 p.m. There will not be a formal presentation by Commission staff when the session opens. If you wish to speak, the Commission staff will hand out numbers in the order of your arrival. Comments will be taken until 7:00 p.m. However, if no additional numbers have been handed out and all individuals who wish to provide comments have had an opportunity to do so, staff may conclude the session at 6:30 p.m. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to the end of this notice.

Your scoping comments will be recorded by a court reporter (with FERC staff or representative present) and become part of the public record for this proceeding. Transcripts will be publicly available on FERC's eLibrary system (see the end of this notice for instructions on using eLibrary). If a significant number of people are interested in providing verbal comments in the one-on-one settings, a time limit of 3 to 5 minutes may be implemented for each commentor.

It is important to note that the Commission provides equal consideration to all comments received, whether filed in written form or provided verbally at a scoping session. Although there will not be a formal presentation, Commission staff will be available throughout the scoping session to answer your questions about the environmental review process. Representatives from PAPL will also be present to answer project-specific questions.

Please note this is not your only public input opportunity; refer to the review process flow chart in appendix 2.

Summary of the Planned Project

PAPL plans to construct and operate a natural gas infrastructure project (the Louisiana Connector Extension Project) in Louisiana and Texas. The project would provide about 2.5 billion standard cubic feet per day of natural gas to supply a previously approved natural gas liquefaction and export project in Jefferson County, Texas.²

² This export project is referred to as the Port Arthur Liquefaction Project. It, along with the Port Arthur Texas Connector Project and Louisiana Connector Project, have been reviewed by FERC under Docket Nos. CP17-20-000, CP17-21-000, and CP18-7-000, and approved by the Commission in an Order dated April 18, 2019.

The Louisiana Connector Extension Project would consist of the following facilities:

• A new 166-mile-long, 48-inch-diameter natural gas pipeline in Allen, Evangeline, Rapides, Grant, La Salle, Catahoula, Franklin, and Richland Parishes, Louisiana;

• a new header system pipeline totaling 15 miles in length with various diameters of pipeline;

• two new compressor stations, one in Allen Parish and one in Richland Parish, Louisiana;

• up to eight new interconnects and meter stations in Beauregard and Richland Parishes, Louisiana;

• appurtenant underground and aboveground facilities; and

• expansion of the previously approved Louisiana Connector Project's pipeline diameter from 42 inches to 48 inches between mileposts 0 and 86 in Jefferson County, Texas and Cameron, Calcasieu, Beauregard, and Allen Parishes, Louisiana.

The general location of the planned project facilities is shown in appendix 3.

Land Requirements for Construction

Construction of the planned aboveground and pipeline facilities would disturb about 3,000 acres of land. Following construction, PAPL would maintain about 1,000 acres for permanent operation of the project's facilities; the remaining acreage would be restored and revert to former uses. About 70 percent of the planned pipeline route parallels existing pipeline, utility, or road rights-of-way.

The EIS Process

The EIS will discuss impacts that could occur as a result of the construction and operation of the planned project under these general headings:

• Geology and soils;

• land use;

• water resources, fisheries, and wetlands;

• cultural resources;

• vegetation and wildlife;

• socioeconomics;

• air quality and noise;

• endangered and threatened species;

• public safety; and

• cumulative impacts.

Commission staff will also evaluate possible alternatives to the planned project or portions of the project, and make recommendations on how to lessen or avoid impacts on the various resource areas.

Although no formal application has been filed, Commission staff have already initiated a NEPA review under the Commission's pre-filing process. The purpose of the pre-filing process is to encourage early involvement of interested stakeholders and to identify and resolve issues before the Commission receives an application. As part of the pre-filing review, Commission staff will contact federal and state agencies to discuss their involvement in the scoping process and the preparation of the EIS.

The EIS will present Commission staff's independent analysis of the issues. The draft EIS will be available in electronic format in the public record through eLibrary ³ and the Commission's website (https://www.ferc.gov/industries/gas/enviro/eis.asp). If eSubscribed, you will receive instant email notification when the draft EIS is issued. The draft EIS will be issued for an allotted public comment period. After the comment period on the draft EIS, Commission staff will consider all timely comments and revise the document, as necessary, before issuing a final EIS. To ensure Commission staff have the opportunity to consider and address your comments, please carefully follow the instructions in the Public Participation section, beginning on page 2 of this notice.

³ For instructions on connecting to eLibrary, refer to the end of this notice.

With this notice, the Commission is asking agencies with jurisdiction by law and/or special expertise with respect to the environmental issues related to this project to formally cooperate in the preparation of the EIS.⁴ Agencies that would like to request cooperating agency status should follow the instructions for filing comments provided under the Public Participation section of this notice.

⁴ The Council on Environmental Quality regulations addressing cooperating agency responsibilities are at Title 40, Code of Federal Regulations, Part 1501.6.

Consultation Under Section 106 of the National Historic Preservation Act

In accordance with the Advisory Council on Historic Preservation's implementing regulations for section 106 of the National Historic Preservation Act, the Commission is using this notice to initiate consultation with the applicable State Historic Preservation Office(s), and to solicit their views and those of other government agencies, interested Indian tribes, and the public on the project's potential effects on historic properties.⁵ The EIS for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Currently Identified Environmental Issues

Commission staff have already identified several issues that deserve attention based on a preliminary review of the planned facilities and the environmental information provided by PAPL. This preliminary list of issues may change based on your comments and our analysis.

• Impacts on wetlands;

• construction in and potential impacts on aquatic resources in Sabine Lake;

• colocation with existing pipelines; and

• utilization of the same or similar rights-of-way as other proposed pipeline projects.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. Commission staff will update the environmental mailing list as the analysis proceeds to ensure that Commission notices related to this environmental review are sent to all individuals, organizations, and government entities interested in and/or potentially affected by the planned project.

A Notice of Availability of the draft EIS will be sent to the environmental mailing list and will provide instructions to access the electronic document on the FERC's website (www.ferc.gov). If you need to make changes to your name/address, or if you would like to remove your name from the mailing list, please return the attached “Mailing List Update Form” (appendix 4).

Becoming an Intervenor

Once PAPL files its application with the Commission, you may want to become an intervenor which is an official party to the Commission's proceeding. Only intervenors have the right to seek rehearing of the Commission's decision and be heard by the courts if they choose to appeal the Commission's final ruling. An intervenor formally participates in the proceeding by filing a request to intervene pursuant to Rule 214 of the Commission's Rules of Practice and Procedures (18 CFR 385.214). Motions to intervene are more fully described at http://www.ferc.gov/resources/guides/how-to/intervene.asp. Please note that the Commission will not accept requests for intervenor status at this time. You must wait until the Commission receives a formal application for the project, after which the Commission will issue a public notice that establishes an intervention deadline.

Additional Information

Additional information about the project is available from the Commission's Office of External Affairs, at (866) 208-FERC, or on the FERC website (www.ferc.gov) using the eLibrary link. Click on the eLibrary link, click on General Search and enter the docket number in the Docket Number field, excluding the last three digits (i.e., PF19-6). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Public sessions or site visits will be posted on the Commission's calendar located at www.ferc.gov/EventCalendar/EventsList.aspx along with other related information.

Dated: September 5, 2019.
Kimberly D. Bose,
Secretary.

[FR Doc. 2019-19752 Filed 9-11-19; 8:45 am]

BILLING CODE 6717-01-P